DEPARTMENT OF EDUCATION

[Docket No.: ED-2017-ICCD-0113]

Agency Information Collection Activities; Submission to the Office of Management and Budget for Review and Approval; Comment Request; Experimental Sites Initiative Reporting Tool 2017

AGENCY: Federal Student Aid (FSA), Department of Education (ED),

ACTION: Notice.

SUMMARY: In accordance with the Paperwork Reduction Act of 1995, ED is proposing an additional 30 day public comment period for a new information collection.

DATES: Interested persons are invited to submit comments on or before April 6, 2018.

ADDRESSES: To access and review all the documents related to the information collection listed in this notice, please use http://www.regulations.gov by searching the Docket ID number ED-2017-ICCD-0113. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 216-42, Washington, DC 20202-4537.

FOR FURTHER INFORMATION CONTACT: For specific questions related to collection activities, please contact Warren Farr, 202-377-4380.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Experimental Sites Initiative Reporting Tool 2017.

OMB Control Number: 1845-NEW.

Type of Review: A new information collection.

Respondents/Affected Public: State, Local, and Tribal Governments; Private Sector.

Total Estimated Number of Annual Responses: 300.

Total Estimated Number of Annual Burden Hours: 5,400.

Abstract: Federal Student Aid (FSA) is requesting an additional 30 day public comment period, for this Experimental Sites Initiatives (ESI) information clearance request, to ensure that all affected parties will have an opportunity to review and respond to these proposed additional questions. Based on public comments received during the 30 day public comment period, which closed January 18, 2018, FSA is incorporating 40 new questions across the Institutional Surveys for seven of the experiments. The additional questions can be viewed as directed in the ADDRESSES section of this notice. FSA has determined that responding to the additional questions will add, on average, one hour of additional burden to affected parties. The collection of this data and the results of these experiments will help the Department in its continuing efforts to improve Title IV program administration.

Dated: March 1, 2018.
Tomakie Washington,
Acting Director, Information Collection Clearance Division, Office of the Chief Privacy Officer, Office of Management.

[FR Doc. 2018-04580 Filed 3-6-18; 8:45 am]

BILLING CODE 4000-01-P